DEPARTMENT OF TRANSPORTATION

Federal Aviation Administration

14 CFR Part 71

[Docket No. FAA-2012-0301; Airspace Docket No. 12-AEA-3]

Revocation of Class E Airspace; Lloydsville, PA, and Amendment of Class D and E Airspace; Latrobe, PA

AGENCY: Federal Aviation Administration (FAA), DOT.

ACTION: Final rule.

SUMMARY: This action removes Class E airspace listed at Lloydsville, PA, for Latrobe Hospital Heliport (old name), and incorporates Excela Health Latrobe Hospital Heliport (new name) onto Class E airspace at Latrobe, PA. Also, this action amends Class D and E airspace at Latrobe, PA, as new Standard Instrument Approach Procedures have been developed at Arnold Palmer Regional Airport. The geographic coordinates for both the heliport and the airport are updated. This action enhances the safety and airspace management of Instrument Flight Rules (IFR) operations in the Latrobe, PA, area. This action also recognizes the airport name change to Arnold Palmer Regional Airport.

DATES: Effective 0901 UTC, September 20, 2012. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On May 11, 2012, the FAA published in the Federal Register a notice of proposed rulemaking to remove Class E airspace in the Lloydsville, PA, and amend Class D and E airspace in Latrobe, PA (77 FR 27667). Interested parties were invited to participate in this rulemaking effort by submitting written comments on the proposal to the FAA. No comments were received. Class D and E airspace designations are published in Paragraphs 5000, 6004, and 6005, respectively, of FAA Order 7400.9V, dated August 9, 2011, and effective September 15, 2011, which is incorporated by reference in 14 CFR 71.1. The Class D and E airspace designation listed in this document will be published subsequently in the Order.

The Rule

This amendment to Title 14, Code of Federal Regulations (14 CFR) part 71 removes Class E airspace extending upward from 700 feet above the surface in Lloydsville, PA, for Latrobe Hospital Heliport, and incorporate Excela Health Latrobe Hospital Heliport, formerly Latrobe Hospital Heliport, into existing Class E airspace extending upward from 700 feet above the surface, at Latrobe, PA. Class D airspace, Class E surface airspace, and Class E airspace extending upward from 700 feet above the surface are amended to support new standard instrument approach procedures at Arnold Palmer Regional Airport, Latrobe, PA, formerly Westmoreland County Airport. The geographic coordinates for the heliport and the airport are adjusted to coincide with the FAA's aeronautical database.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it removes controlled airspace In Lloydsville, PA and amends controlled airspace in Latrobe, PA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, dated August 9, 2011, effective September 15, 2011, is amended as follows:

* * * * *

Paragraph 5000 Class D airspace.

AEA PA D Latrobe, PA [Amended]

Arnold Palmer Regional Airport, Latrobe, PA

(Lat. 40°16′29″ N., long. 79°24′24″ W.)

That airspace extending upward from the surface to and including 3,700 feet MSL within a 5-mile radius of Arnold Palmer Regional Airport. This Class D airspace area is effective during the specific dates and times established in advance by a Notice to Airmen. The effective date and time will thereafter be continuously published in the Airport/Facility Directory.

Paragraph 6004 Class E Airspace Designated as an Extension to a Class D Surface Area.

* * * * *

AEA PA E4 Latrobe, PA [Amended]

Arnold Palmer Regional Airport, Latrobe, PA

(Lat. 40°16′2″ N., long. 79°24′24″ W.)

That airspace extending upward from the surface of Arnold Palmer Regional Airport within the 045° bearing from the airport clockwise to the 210° bearing, extending from the 5-mile radius of the airport to 10 miles southwest. This Class E airspace area shall be effective during the specific dates and times established in advance by a Notice to Airmen. The effective date and time will thereafter be continuously published in the Airport/Facility Directory.

Paragraph 6005 Class E airspace areas extending upward from 700 feet or more above the surface of the earth.

* * * * *

AEA PA E5 Lloydsville, PA [Removed]

AEA PA E5 Latrobe, PA [Amended]

Arnold Palmer Regional Airport, Latrobe, PA

Lat. 40°16′29″ N., long. 79°24′24″ W.)

Excela Health Latrobe Hospital Heliport

(Lat. 40°19′13″ N., long. 79°23′37″ W.)

That airspace extending upward from 700 feet above the surface within a 12-mile radius of Arnold Palmer Regional Airport, and within a 6-mile radius of Excela Health Latrobe Hospital Heliport.

Issued in College Park, Georgia, on July 9, 2012.
Barry A. Knight,
Manager, Operations Support Group Eastern Service Center, Air Traffic Organization.

[FR Doc. 2012-17469 Filed 7-18-12; 8:45 am]

BILLING CODE 4910-13-P